DEPARTMENT OF COMMERCE

National Oceanic and Atmospheric Administration

RIN 0648-XE311

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Coastal Migratory Pelagics (CMP) Advisory Panel (AP).

DATES: The meeting will be held on Monday, November 30, 2015, from 8:30 a.m. until 5 p.m.

ADDRESSES: The meeting will be held at the Hilton Tampa Airport Westshore hotel, located at 2225 N. Lois Avenue, Tampa, FL 33607; telephone: (813) 877-6688.

Council address: Gulf of Mexico Fishery Management Council, 2203 N. Lois Avenue, Suite 1100, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Agenda

Monday, November 30, 2015

The Chairman will begin the meeting with introductions, adoption of the agenda, and review and approval of the CMP Advisory Panel (AP) minutes from the March 3-4, 2015 meeting; followed by an election of a new chair and vice-chair. The Committee will then review the CMP Amendment 26 Public Hearing Draft—Gulf and Atlantic King Mackerel reallocation, stock boundary, and sale provisions; including the review of the CMP 26 Decision Document and the AP's recommendations. The AP will discuss Other Business; Modifications to Electronic Seafood Dealer Report, and additional items, if any.

Meeting Adjourns

The Agenda is subject to change, and the latest version along with other meeting materials will be posted on the Council's file server. To access the file server, go to the Council's Web site (http://www.gulfcouncil.org) and click on the “File Server” link at the lower left corner of the Web site. The username and password are both “gulfguest”. Click on the “Library Folder”, then scroll down to “Mackerel AP Meeting—November 30, 2015”.

The meeting will be webcast over the internet. A link to the webcast will be available on the Council's Web site, http://www.gulfcouncil.org.

Although other non-emergency issues not on the agenda may come before this group for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: November 9, 2015.
Tracey L. Thompson,
Acting Deputy Director, Office of Sustainable Fisheries, National Marine Fisheries Service.

[FR Doc. 2015-28816 Filed 11-12-15; 8:45 am]

BILLING CODE 3510-22-P